DEPARTMENT OF HEALTH AND HUMAN SERVICES

Centers for Disease Control and Prevention

Advisory Committee to the Director (ACD), Centers for Disease Control and Prevention (CDC)

In accordance with section 10(a)(2) of the Federal Advisory Committee Act (Pub. L. 92-463), the Centers for Disease Control and Prevention (CDC) announces the following meeting of the aforementioned committee.

Time and Date: 1 p.m.-3:05 p.m., April 28, 2011.

Place: The meeting will be held by teleconference. Please dial 877-930-8819 and enter code 1579739.

Status: Open to the public, limited only by the lines available. The public is welcome to participate during the public comment period. The public comment period is tentatively scheduled for 2:55 p.m. to 3 p.m.

Purpose: The committee will provide advice to the CDC Director on strategic and other broad issues facing CDC.

Matters to Be Discussed: The Advisory Committee to the Director will review and discuss recommendations and reports from two subcommittees and one workgroup. The Ethics Subcommittee will submit recommendations on Ethical Considerations for Non-communicable Disease Interventions as well as on Ethical Considerations for Decision Making Regarding Allocation of Mechanical Ventilators during a Severe Influenza Pandemic or Other Public Health Emergency. The National Biosurveillance Advisory Subcommittee will submit their report entitled, “Improving the Nation's Ability to Detect and Respond to 21st Century Urgent Health Threats: Second Report of the National Biosurveillance Advisory Subcommittee,” for approval. The State, Tribal, Local and Territorial (STLT) Workgroup will provide Directional Recommendations for Enhancing CDC Support to the STLT Community.

Agenda items are subject to change as priorities dictate.

Contact Person for More Information: Carmen Villar, MSW, Designated Federal Officer, ACD, CDC, 1600 Clifton Road, NE., Mailstop D-14, Atlanta, Georgia 30333, Telephone: (404) 639-7000. E-mail: GHickman@cdc.gov. The deadline for notification of attendance is April 25, 2011.

The Director, Management Analysis and Services Office, has been delegated the authority to sign Federal Register notices pertaining to announcements of meetings and other committee management activities, for both the Centers for Disease Control and Prevention and the Agency for Toxic Substances and Disease Registry.

Dated: April 5, 2011.
Elaine L. Baker,
Director, Management Analysis and Services Office, Centers for Disease Control and Prevention (CDC).

[FR Doc. 2011-8657 Filed 4-11-11; 8:45 am]

BILLING CODE 4163-18-P